DEPARTMENT OF COMMERCE

National Oceanic and Atmospheric Administration

[Docket No.: 040526164-4164-01 I.D. 050304G]

RIN 0648-ZB60

Submerged Aquatic Vegetation Culture and Restoration Projects in the Chesapeake Bay; Chesapeake Bay Non-native Oyster Research to Support an Environmental Impact Statement

AGENCY: National Marine Fisheries Service (NMFS), National Oceanic and Atmospheric Administration (NOAA), Department of Commerce.

ACTION: Notice of availability of funds.

SUMMARY: The purpose of this notice is to invite the public to submit proposals for available funding provided through the NOAA Chesapeake Bay Office (NCBO) to assist in carrying out the following two initiatives under the Chesapeake Bay Studies Program (11.457) Submerged Aquatic Vegetation (SAV) culture and large-scale restoration in the Chesapeake Bay; and, research and development projects on non-native oysters to support the current effort to develop a Chesapeake Bay Environmental Impact Statement. Funds are available to state, local and Indian tribal governments, institutions of higher education, other non-profit and commercial organizations. This notice describes the conditions under which project proposals will be accepted and the criteria under which proposals will be evaluated. Depending upon the level of Federal involvement in these two initiatives, selected recipients will enter into either a cooperative agreement or a grant. NCBO intends to continue with several existing relationships and to make awards through these programs for currently funded multiple year projects pending acceptable scientific review.

DATES: Applications must be received by 5 p.m. eastern time on July 6, 2004. Applications received after that time will not be considered for funding.

Statements of Intent (see SUPPLEMENTARY INFORMATION) should be submitted by June 23, 2004.

ADDRESSES: Proposals must be submitted Derek Orner, Program Coordinator, NOAA Chesapeake Bay Office, 410 Severn Avenue, Suite 107A, Annapolis, MD 21403.

FOR FURTHER INFORMATION CONTACT: Derek Orner, Program Coordinator, NOAA Chesapeake Bay Office, telephone: (410) 267-5660, or e-mail: derek.orner@noaa.gov. You can obtain a copy of the application package, including the full funding opportunity announcement for this solicitation, from Derek Orner. You can also obtain the application package from the NOAA Chesapeake Bay Office grants home page http://noaa.chesapeakebay.net/grants. The Statement of Intent (see SUPPLEMENTARY INFORMATION) should be sent to Derek Orner (derek.orner@noaa.gov).

SUPPLEMENTARY INFORMATION: Electronic Access: The full funding opportunity announcement for these Chesapeake Bay Studies programs is available via Web site: http://www.ofa.noaa.gov/amd/SOLINDEX.HTML or by contacting the program official identified above (see ADDRESSES). This announcement will also be available through Grants.gov at http.//www.Grants.gov.

Funding Availability: This solicitation announces that approximately $550,000 may be made available through the Chesapeake Bay Studies submerged aquatic vegetation program and approximately $2,000,000 may be made available through the Chesapeake Bay Studies non-native oyster research program. This document describes how interested persons can apply for funding and how funding decisions will be made for both initiatives.

Authority: 16 U.S.C. 753a; 16 U.S.C. 661-666c.

CFDA: 11.457, Chesapeake Bay Studies.

Eligibility: Eligible applicants include state, local and Indian tribal governments, institutions of higher education, other nonprofit organizations and commercial organizations.

Cost Sharing Requirements: NOAA strongly encourages applicants applying for either initiative to share as much of the costs of the award as possible. Funds from other Federal awards may not be considered matching funds. The nature of the contribution (cash versus in-kind) and the amount of matching funds will be taken into consideration in the final selection process. Priority will be given to proposals that propose cash rather than in-kind contributions.

Intergovernmental Review: Applications under this program are subject to Executive Order 12372, “Intergovernmental Review of Federal Programs.”

Evaluation and Selection Procedures: An initial administrative review/screening is conducted by the NCBO to determine compliance with requirements/completeness including eligibility and relevance to the NCBO. Proposals that do not support the technical and management areas of interest of the Chesapeake Bay, as defined in the full funding announcement, will not be considered for funding. All applications meeting the requirements of this solicitation will undergo an external technical review conducted by a minimum of three independent mail reviewers. All proposals will be individually evaluated, rated and ranked in accordance with the assigned weights of the evaluation criteria listed below. This review normally will involve experts from both NOAA and non-NOAA organizations.

For the SAV Program, the technical reviewers' ratings will be used to produce a rank order of the proposals. In making the final selections, the selecting official will award in rank order unless the proposal is justified to be selected out of rank order based upon one of more of the selection factors.

For the non-native oyster research program, the NCBO will convene a review panel consisting of at least three regional experts in the scientific and management aspects of oyster research from NOAA and non-NOAA organizations. Each member of the panel will review the technical review ranking and comments and individually make recommendations and provide a numerical ranking to the Program Coordinator. No consensus advice will be given by the reviewer panel members. The selection official selects proposals after considering the technical reviewer's comments, peer panel reviews and selection factors listed below. In making the final selections, the selecting official will award in rank order unless the proposal is justified to be selected out of rank order based upon one of more of the selection factors.

Evaluation Criteria: Proposals will be evaluated on the basis of the following evaluation criteria at the indicated weights:

(1) Importance/Relevance and Applicability of Proposal (15 points). This criterion ascertains whether there is intrinsic value in the proposed work and/or relevance to NOAA, Federal, regional, state, or local activities.

(2) Technical/Scientific Merit (15 points). This criterion assesses whether the approach is technically sound and/or innovative, if the methods are appropriate, and whether there are clear project goals and objectives.

(3) Overall Qualification of Applicants (5 points). This criterion ascertains whether the applicant possesses the necessary education, experience, training, facilities, and administrative resources to accomplish the project.

(4) Project Costs (10 points). This criterion ascertains whether the applicant possesses the necessary education, experience, training, facilities, and administrative resources to accomplish the project.

(5) Outreach and Education (10 points). NOAA assesses whether this project provides a focused and effective education and outreach strategy regarding NOAA's mission to protect the Nation's natural resources.

Selection Factors: The Program Coordinator may, in consultation with the NCBO staff, review the ranking of the proposals and the technical review comments and make recommendations to the NCBO Director. The average numerical ranking from the technical review will be the primary consideration in deciding which of the proposals will be recommended for funding to the NOAA Grants Officer. The NCBO Director shall select awards in rank order unless the proposal is justified to be selected out of rank order based upon 1, 2, 3, 4, or 5 of the following factors:

1. Availability of funding;

2. Balance/distribution of funds: geographically, by type of institutions, by type of partners, by research areas, by project types;

3. Duplication of other projects funded or considered for funding by NOAA or other Federal agencies;

4. Program priorities and policy factors;

5. Applicant's prior award performance; or

6. Partnerships and/or participation of targeted groups.

The Department of Commerce Pre-Award Notification Requirements for Grants and Cooperative Agreements: The Department of Commerce Pre-Award Notification Requirements for Grants and Cooperative Agreements contained in the Federal Register notice of October 1, 2001 (66 FR 49917), as amended by the Federal Register notice on October 30, 2002 (67 FR 66109), are applicable to this solicitation.

Limitation of Liability: In no event will NOAA or the Department of Commerce be responsible for proposal preparation costs if these programs fail to receive funding or are cancelled because of other agency priorities. Publication of this announcement does not oblige NOAA to award any specific project or to obligate any available funds.

National Environmental Policy Act (NEPA): NOAA must analyze the potential environmental impacts, as required by the National Environmental Policy Act (NEPA), for applicant projects or proposals which are seeking NOAA Federal funding opportunities. Detailed information on NOAA compliance with NEPA can be found at the following NOAA NEPA Web site: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm). Consequently, as part of an applicant's package, and under their description of their program activities, applicants are required to provide detailed information on the activities to be conducted, locations, sites, species and habitat to be affected, possible construction activities, and any environmental concerns that may exist (e.g., the use and disposal of hazardous or toxic chemicals, introduction of nonindigenous species, impacts to endangered and threatened species, aquaculture projects, and impacts to coral reef systems).

In addition to providing specific information that will serve as the basis for any required impact analyses, applicants may also be requested to assist NOAA in drafting of an environmental assessment, if NOAA determines an assessment is required. Applicants will also be required to cooperate with NOAA in identifying and implementing feasible measures to reduce or avoid any identified adverse environmental impacts of their proposal. The failure to do so shall be grounds for the denial of an application.

Paperwork Reduction Act: This document contains collection-of-information requirements subject to the Paperwork Reduction Act. The use of Standard Forms 424, 424A, 424B, and CD-346 has been approved by the Office of Management and Budget under the respective control numbers 0348-0043, 0348-0044, 0348-0040, and 0605-0001.

Notwithstanding any other provision of law, no person is required to respond to, nor shall any person be subject to a penalty for failure to comply with, a collection of information subject to the requirements of the Paperwork Reduction Act unless that collection of information displays a currently valid OMB control number.

Executive Order 12866: This action has been determined to be “not significant” for purposes of Executive Order 12866.

Executive Order 13132 (Federalism): It has been determined that this notice does not contain policies with Federalism implications as that term is defined in Executive Order 13132.

Administrative Procedure Act/Regulatory Flexibility Act: Prior notice and an opportunity for public comment are not required by the Administrative Procedure Act or any other law for this notice concerning grants, benefits, and contracts (5 U.S.C. section 553(a)(2)). Because notice and opportunity for comment are not required pursuant to 5 U.S.C. 553 or any other law, the analytical requirements of the Regulatory Flexible Act, 5 U.S.C. 601 et. seq. are inapplicable. Therefore, a regulatory flexibility analysis has not been prepared.

Dated: May 28, 2004.
Rebecca Lent,
Deputy Assistant Administrator for Regulatory Programs, National Marine Fisheries Service.

[FR Doc. 04-12599 Filed 6-2-04; 8:45 am]

BILLING CODE 3510-22-S